DEPARTMENT OF ENERGY

Federal Energy Regulatory Commission

[Project No. 2246-102]

Yuba County Water Agency; Notice of Application for Non-Capacity License Amendment Accepted for Filing and Soliciting Comments, Motions To Intervene, and Protests

Take notice that the following hydroelectric application has been filed with the Commission and is available for public inspection:

a. Application Type: Non-Capacity Amendment.

b. Project No: P-2246-102.

c. Date Filed: January 31, 2025.

d. Applicant: Yuba County Water Agency.

e. Name of Project: Yuba River Hydroelectric Project.

f. Location: The project is located on the Yuba River and its tributaries, North Yuba River, Middle Yuba River, and Oregon Creek in the counties of Yuba, Nevada, and Sierra, California, and affecting lands of the United States within Plumas and Tahoe National Forests.

g. Filed Pursuant to: Federal Power Act, 16 U.S.C. 791a-825r.

h. Applicant Contact: Willie Whittlesey, General Manager, Yuba County Water Agency, 1220 F Street, Marysville, California 95901, wwhittlesey@yubawater.org, (530) 741-5000.

i. FERC Contact: Zeena Aljibury, (202) 502-6065, zeena.aljibury@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item l below. Cooperating agencies should note the Commission's policy that agencies that cooperate in the preparation of any environmental document cannot also intervene. See 94 FERC ¶ 61,076 (2001).

k. Water Quality Certification: A water quality certificate under section 401 of the Clean Water Act is required for this proposal from the California State Water Resources Control Board (California SWRCB). The applicant must file no later than 60 days following the date of issuance of this notice either: (1) a copy of the request for water quality certification submitted to the California SWRCB; or (2) a copy of the water quality certification or evidence of waiver of water quality certification.

l. Deadline for filing comments, motions to intervene, and protests is August 1, 2025.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-2246-102. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

m. Description of Request: The applicant requests a license amendment to add an Atmospheric River Control Secondary Spillway (ARC Spillway) at the Project's New Bullards Bar Dam. The purpose of the ARC Spillway is to support flood management operations along the Yuba and Feather rivers consistent with U.S. Army Corps of Engineers (Corps) Flood Control Regulations, and to enhance dam safety at the project. The proposed ARC Spillway would be located south of the New Bullards Bar Dam existing spillway in the upper left abutment area of the dam. The proposed ARC Spillway would include: (1) a new excavated approach channel to the intake structure; (2) a new reinforced-concrete intake control structure at the end of the approach channel containing intake gates and wire rope hoists and a new Gate Control Building adjacent to the intake structure; (3) a new spillway chute and discharge canal; (4) a new concrete outlet structure that would consist of a portal headwall to stabilize the excavated face at the tunnel terminal point and a new flip bucket style outlet structure; and (5) new appurtenant facilities and features. The applicant would enlarge the project boundary by approximately 13.1 acres to encompass new or improved access roads to the spillway. The proposed ARC Spillway would have a discharge capacity of approximately 33,500 cubic feet per second (cfs) compared to the existing capacity of 19,000 cfs. The proposed ARC Spillway would allow for the earlier release of flood flows in advance of major storms, which would reduce water levels on flood levees near Marysville, California by up to 2.5 feet in a 1997-type storm event. The proposed ARC Spillway would also provide additional redundancy to release water from New Bullards Bar Reservoir during storm events if the dam's existing spillway becomes inoperable. This proposed work was originally filed under the relicensing application for the Project (still pending) and a Final Environmental Impact Statement (FEIS) was issued on January 2, 2019, which analyzed, in part, the effects of the proposed ARC Spillway (referred to as the auxiliary flood control outlet in the FEIS).

n. Locations of the Application: This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

Dated: July 2, 2025.
Debbie-Anne A. Reese,
Secretary.

[FR Doc. 2025-12652 Filed 7-7-25; 8:45 am]

BILLING CODE 6717-01-P